SECURITIES AND EXCHANGE COMMISSION

Proposed Collection; Comment Request

Upon Written Request, Copies Available From: Securities and Exchange Commission, Office of Investor Education and Advocacy, Washington, DC 20549-0213.

Extension:

Form 20-F, OMB Control No. 3235-0288, SEC File No. 270-156.

Notice is hereby given that, pursuant to the Paperwork Reduction Act of 1995 (44 U.S.C. 3501 et seq. ), the Securities and Exchange Commission (“Commission”) is soliciting comments on the collection of information summarized below. The Commission plans to submit this existing collection of information to the Office of Management and Budget for extension and approval.

Form 20-F (17 CFR 249.220f) is used by foreign private issuers to either register a class of securities under the Securities Exchange Act of 1934 pursuant to Section 12(b) or 12(g) (15 U.S.C. 78l(b) or 78l(g))(Exchange Act) or to satisfy their annual report obligation pursuant to Section 13 or 15(d) of the Exchange Act (15 U.S.C. 78m and 78o(d)). The information collected is intended to enable investors in foreign private issuers to make informed investment decisions. Form 20-F takes approximately 2,611 hours per response to prepare and is filed by 942 foreign private issuers annually. We estimate that 25% of the 2,611 hours per response (652.75 hours) is prepared by the issuer for an annual reporting burden of 614,891 hours (652.75 hours per response x 942 responses). The remaining 75% of the burden hours is prepared by outside counsel.

Written comments are invited on: (a) Whether the proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology. Consideration will be given to comments and suggestions submitted in writing within 60 days of this publication.

Please direct your written comments to Lewis W. Walker, Acting Director/Chief Information Officer, Securities and Exchange Commission, C/O Shirley Martinson, 6432 General Green Way, Alexandria, Virginia 22312; or send an e-mail to: PRA_Mailbox@sec.gov .

Dated: October 1, 2008.
Florence E. Harmon,
Acting Secretary.

[FR Doc. E8-23835 Filed 10-7-08; 8:45 am]

BILLING CODE 8011-01-P